DEPARTMENT OF COMMERCE

National Oceanic and Atmospheric Administration

RIN 0648-XR057

Endangered and Threatened Species; Announcement of a Recovery Planning Workshop and Request for Information To Inform Recovery Planning for the Oceanic Whitetip Shark

AGENCY: National Marine Fisheries Service (NMFS), National Oceanic and Atmospheric Administration (NOAA), Commerce.

ACTION: Notice; request for information.

SUMMARY: We, NMFS, are convening a workshop to solicit facts and information from experts to inform recovery planning for the oceanic whitetip shark (Carcharhinus longimanus). We will not be asking for a consensus recommendation on how to recover the oceanic whitetip shark. This workshop will be open to the public. We also request information that might inform the development of the recovery plan.

DATES:

Workshop dates and information: The two-day recovery planning workshop for the oceanic whitetip shark will be held Wednesday, November 13 through Thursday, November 14, 2019 at Florida International University Biscayne Bay Campus, Marine Science Building Room #105, 3000 NE 151 Street, Miami, FL 33181. The workshop will begin each day at 9 a.m. and end each day at 5 p.m. or as necessary to complete business for the day.

RSVP date: If you plan to attend the workshop as an interested member of the public, please contact Chelsey Young, NMFS, Office of Protected Resources, chelsey.young@noaa.gov, 301-427-8491 no later than November 6, 2019.

Date for information submission: Please submit information to inform recovery planning via the methods listed below in the ADDRESSES section by December 16, 2019.

ADDRESSES: You may submit information to help inform the recovery plan for the oceanic whitetip shark, by including NOAA-NMFS-2019-0024, by either of the following methods:

• Federal e-Rulemaking Portal: Go to www.regulations.gov/#!docketDetail;D=NOAA-NMFS-2019-0024. Click the “Comment Now!” icon, complete the required fields, and enter or attach your comments.

• Mail: Chelsey Young, Office of Protected Resources, National Marine Fisheries Service, 1315 East-West Highway, Room 13632, Silver Spring, MD 20910.

Instructions: NMFS may not consider comments if they are sent by any other method, to any other address or individual, or received after the end of the comment period. All comments received are a part of the public record and will generally be posted for public viewing on www.regulations.gov without change. All personal identifying information (e.g., name, address, etc.), confidential business information, or otherwise sensitive information submitted voluntarily by the sender will be publicly accessible. NMFS will accept anonymous comments (enter N/A in the required fields if you wish to remain anonymous).

FOR FURTHER INFORMATION CONTACT: Chelsey Young, NMFS, Office of Protected Resources, (301) 427-8491, chelsey.young@noaa.gov; or John Carlson, NMFS, Southeast Fisheries Science Center, (850) 624-9031, john.carlson@noaa.gov.

SUPPLEMENTARY INFORMATION:

Background

On January 30, 2018, we published a final rule listing the oceanic whitetip shark as threatened under the Endangered Species Act (ESA) (83 FR 4153). The final listing rule describes the background of the listing action for the species and provides a summary of our conclusions regarding its status. For additional background and a summary of natural history and threats to the species, the reader is referred to the status review report and final listing rule (available at https://www.fisheries.noaa.gov/species/oceanic-whitetip-shark).

NMFS is required by section 4(f) of the ESA to develop and implement recovery plans for the conservation and survival of federally listed species unless the Secretary finds that such a plan will not promote the conservation of the species. Recovery means improvement in the status of the species to the point at which the protections of the ESA are no longer necessary. The ESA specifies that recovery plans are to include (1) a description of site-specific management actions necessary to achieve the plan's goals for the conservation and survival of the species; (2) objective, measurable criteria which, when met, would result in the species being removed from the list; and (3) estimates of the time and costs required to carry out the actions and achieve the plan's conservation goals. Under section 4(f) of the ESA, public notice and an opportunity for public review and comment are also provided during recovery plan development. This notice and request for information serves as the first public notice and opportunity for public input early in the process. Once a recovery plan has been drafted, it will be announced in the Federal Register and available on our website (see ADDRESSES section) for public review and comment before being finalized.

Recovery Planning Workshop Announcement

From November 13 through 14, 2019, NMFS will hold a workshop at the Florida International University Biscayne Bay Campus in Miami, FL to help inform our recovery planning for the oceanic whitetip shark (see DATES section). We are inviting experts in specific topic areas, including the species' biology/ecology, threats to the species and the species' habitat, and the recovery planning process itself. These experts will help us to identify potential actions to address the threats to the species, identify gaps in knowledge and associated research needs, as well as begin developing recovery criteria for the species. In particular, this workshop will focus on addressing threats related to commercial fisheries interactions. Identified experts include representatives of Federal and state agencies, scientific experts, individuals from conservation partners and nongovernmental organizations, and commercial and recreational fishermen. Information received at the workshop may be used to inform the development of other conservation decisions and actions, including the designation of critical habitat.

NMFS will provide a moderator to manage the workshop as well as a note taker to document input received. We are seeking facts and information; we will not be asking for consensus recommendations on how to recover the oceanic whitetip shark. During the workshop, there will also be a time-limited question and answer period during which attendees may ask NMFS about information presented. NMFS will prepare a summary of the workshop, noting the main points raised by the panelists and registered speakers.

This workshop will be open to the public, and a public comment period will be provided at the end of each day. If you plan to attend the workshop as an interested member of the public, please contact Chelsey Young at the address listed above by November 6, 2019, so we can ensure sufficient space for all participants and interested parties during our logistics planning.

Agenda

• November 13 will focus on the biology, status and threats to the species and discussions regarding potential recovery criteria;

• November 14 will focus on recovery actions related to commercial fisheries interactions, research to fill in data gaps, international coordination, outreach and education, and any other needs.

Request for Information

We also invite the public to submit scientific or commercial information that may help to inform the recovery criteria and actions for the oceanic whitetip shark. We are soliciting relevant information related to the species and its habitat, including the following:

1. Criteria for removing the oceanic whitetip shark from the list of threatened and endangered species (this could be either threats-based or abundance/trends based);

2. Human activities that contribute to threats to the species;

3. Physical, biological or chemical features of the environment that limit the recovery of the oceanic whitetip shark;

4. Recovery strategies addressing threats to physical and biological features that are essential to species conservation;

5. Strategies and/or actions to recover the oceanic whitetip shark;

6. Estimates of the time and cost, and potential partners to implement recovery actions;

7. Critical knowledge gaps and/or uncertainties that need to be resolved to better inform recovery efforts; and

8. Research, monitoring, and evaluation needs to address knowledge gaps and uncertainties, or to assess the species' status, limiting factors, and threats relative to recovery goals.

Information may be submitted via the methods listed above in the ADDRESSES section.

The workshop is accessible to persons with disabilities. Send requests for sign language interpretation or other auxiliary aids at least five business days in advance to Chelsey Young at (301) 427-8491.

Authority: 16 U.S.C. 1531 et seq.

Dated: October 9, 2019.
Donna S. Wieting,
Director, Office of Protected Resources, National Marine Fisheries Service.

[FR Doc. 2019-22441 Filed 10-11-19; 8:45 am]

BILLING CODE 3510-22-P